DEPARTMENT OF COMMERCE

National Oceanic and Atmospheric Administration

50 CFR Part 680

[Docket No. RTID 0648-XE123]

Fisheries of the Exclusive Economic Zone; Amendment 57 to the Fishery Management Plan for Bering Sea/Aleutian Islands King and Tanner Crabs (Crab FMP); Crab FMP Housekeeping

AGENCY: National Marine Fisheries Service (NMFS), National Oceanic and Atmospheric Administration (NOAA), Commerce.

ACTION: Notice of availability of fishery management plan amendment; request for comments.

SUMMARY: The North Pacific Fishery Management Council (Council) submitted amendment 57 to the Fishery Management Plan for Bering Sea/Aleutian Islands King and Tanner Crabs (Crab FMP), to the Secretary of Commerce for review. If approved, amendment 57 would make a number of non-substantive, administrative changes to the Crab FMP including updates to informational content on the status of crab stocks, fisheries, and communities, as well as reorganizing the structure for clarity and logical sequence. These “housekeeping” changes would not change the management of any fisheries. The proposed amendment is intended to promote the goals and objectives of the Magnuson-Stevens Fishery Conservation and Management Act (Magnuson-Stevens Act), the Crab FMP, and other applicable laws. NMFS will consider public comments in deciding whether to approve, disapprove, or partially approve amendment 57.

DATES: Submit comments on or before April 3, 2026.

ADDRESSES: You may submit comments on this document, identified by NOAA-NMFS-2025-0054, by any of the following methods:

• Electronic Submission: Submit all electronic public comments via the Federal e-Rulemaking Portal. Visit https://www.regulations.gov and type NOAA-NMFS-2025-0054 in the Search box. Click on the “Comment” icon, complete the required fields, and enter or attach your comments.

• Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of proposed amendment 57, the draft Analysis for amendment 57 (referred to as the Analysis), and the draft Categorical Exclusion prepared for this action are available from https://www.regulations.gov or from the NMFS Alaska Region website at https://www.fisheries.noaa.gov/region/alaska.

FOR FURTHER INFORMATION CONTACT: Lis Henderson, 907-586-7228, lis.henderson@noaa.gov.

SUPPLEMENTARY INFORMATION: The Council prepared the Crab FMP under the authority of the Magnuson-Stevens Act (16 U.S.C. 1801 et seq.). Regulations governing U.S. fisheries and implementing the FMP appear at 50 CFR parts 600 and 680. The Crab FMP was approved by the Secretary of Commerce on June 2, 1989 and established a cooperative management regime between the State of Alaska (State) and NMFS that delegates certain crab management authorities to the State with Federal oversight. Applicable State regulations are subject to the provisions of the Crab FMP, including its goals and objectives, the Magnuson-Stevens Act National Standards, and other applicable Federal and State laws.

The Magnuson-Stevens Act requires that each regional fishery management council submit any Fishery Management Plan (FMP) amendment it prepares to NMFS for review and approval, disapproval, or partial approval by the Secretary of Commerce (Secretary). The Magnuson-Stevens Act also requires that NMFS, upon receiving an FMP amendment, immediately publish a notice in the Federal Register announcing that the amendment is available for public review and comment. This notice of availability announces that the proposed amendment 57 to the Crab FMP is available for public review and comment. NMFS will consider the public comment received during the comment period described above in determining whether to approve, disapprove, or partially approve amendment 57.

Background

NMFS manages the crab fisheries in the Bering Sea/Aleutian Islands (BSAI) under the Crab FMP. The Crab FMP governs 10 crab stocks in the BSAI region: 4 red king crab (Paralithdoes camtschaticus) stocks (Bristol Bay, Pribilof Islands, Norton Sound, and Western Aleutian Islands), 2 blue king crab (P. platypus) stocks (Pribilof Islands and St. Matthew Island), 2 golden king crab (Lithodes aequispinus) stocks (Aleutian Islands and Pribilof Islands), 1 Tanner crab (Chionoecetes bairdi) stock, and 1 snow crab (C. opilio) stock. Since the Crab FMP's implementation in 1989, crab fisheries in the BSAI region have undergone many changes. Fluctuations in crab abundance and other factors have led to changes in management, both long- and short-term fishery closures, some stocks being declared overfished, and the implementation of rebuilding plans. Consequently, the Crab FMP has been amended 56 times since its inception.

Amendment 57

In December 2023, the Council received an analysis underscoring the need to update outdated information and the organizational structure of the Crab FMP. As a result, the Council adopted the proposed changes and recommended this administrative amendment to the Crab FMP. This action, which is proposed amendment 57 to the Crab FMP, would revise and reorganize the Crab FMP to reflect the numerous changes in crab fisheries, stocks, and fishery management in the BSAI since the last comprehensive Crab FMP update in 1998. The revisions are consistent with the Magnuson-Stevens Act and intended to align with other North Pacific FMPs while improving clarity and consistency.

Amendment 57 would not affect the status of the resource, harvest specifications, fishery operations, or communities engaged in BSAI crab fisheries. Amendment 57 includes the following changes. First, it restructures the Crab FMP into six main chapters: (1) Introduction, (2) Goals and Objectives, (3) Conservation and Fishery Management Measures, (4) Description of Stocks and Fishery, (5) Relationship to Applicable Law and Other Fisheries, and (6) References. This structure aligns with other North Pacific FMPs. Second, it provides updated information on stock statuses, essential fish habitat, and fishing communities engaged in BSAI crab fisheries in Sections 4.2, 4.3.2, and 4.5, respectively. Finally, throughout the Crab FMP, other changes include revisions to the organizational structure, improved content summarization, and grammatical corrections. A more complete list of proposed administrative changes and restructuring of the document in amendment 57 to the Crab FMP is available in Section 2.1 and Appendix A of the Analysis.

Amendment 57 would incorporate the best scientific information available, reflecting the current status of crab stocks, fishing operations, and fishing communities consistent with the Magnuson-Stevens Act.

NMFS is soliciting public comments on proposed amendment 57 through the end of the comment period (see DATES). All relevant written comments received by the end of the applicable comment period will be considered by NMFS in the approval/partial approval/disapproval decision for amendment 57, and will be addressed in the response to comments in the final decision. Comments received after the end of the applicable comment period will not be considered in the approval/partial approval/disapproval decision on amendment 57. To be considered, comments must be received by the last day of the comment period (see DATES), regardless of the date of postmarking or other transmittal.

(Authority: 16 U.S.C. 1801 et seq.)

Dated: January 29, 2026.
Kelly Denit,
Director, Office of Sustainable Fisheries, National Marine Fisheries Service.

[FR Doc. 2026-02068 Filed 1-30-26; 8:45 am]

BILLING CODE 3510-22-P